DEPARTMENT OF ENERGY

Federal Energy Regulatory Commission

Combined Notice of Filings # 1

September 8, 2006.

Take notice that the Commission received the following electric corporate filings:

Docket Numbers: EC06-157-000.

Applicants: Westar Energy, Inc.

Description: Aquila, Inc and Westar Energy, Inc submit an Application for Approval of Disposition of Assets and Exhibits.

Filed Date: August 31, 2006.

Accession Number: 20060907-0155.

Comment Date: 5 p.m. Eastern Time on Thursday, September 21, 2006.

Docket Numbers: EC06-158-000.

Applicants: Hawks Nest Hydro LLC; Alloy Power L.L.C.

Description: Alloy Power LLC and Hawks Nest Hydro LLC submit an application for authorization for disposition of jurisdictional facilities.

Filed Date: August 31, 2006.

Accession Number: 20060906-0070.

Comment Date: 5 p.m. Eastern Time on Thursday, September 21, 2006.

Docket Numbers: EC06-159-000.

Applicants: Avista Rathdrum, LLC; Cogentrix of Rathdrum, Inc.; Rathdrum Power, LLC.

Description: Avista Rathdrum, LLC, et al. submit their application for authorization of a disposition of jurisdictional facilities and request for expedited action.

Filed Date: September 1, 2006.

Accession Number: 20060907-0049.

Comment Date: 5 p.m. Eastern Time on Friday, September 22, 2006.

Take notice that the Commission received the following electric rate filings

Docket Numbers: ER99-830-017.

Applicants: Merrill Lynch Capital Services, Inc.

Description: Merrill Lynch Commodities Inc submits an errata to amend the July 24, 2006 notice to include Merrill Lynch Capital Services Inc.

Filed Date: August 30, 2006.

Accession Number: 20060905-0082.

Comment Date: 5 p.m. Eastern Time on Wednesday, September 20, 2006.

Docket Numbers: ER02-2559-007; ER01-1071-009; ER02-2018-008; ER05-222-004; ER00-2391-008; ER98-2494-012; ER06-9-004; ER05-487-005; ER05-1281-004; ER03-34-008; ER02-1903-007; ER99-2917-009; ER06-1261-002; ER03-1104-005; ER03-1105-005; ER03-1332-004; ER06-1392-001; ER03-1333-005; ER03-1103-004; ER01-838-008; ER03-1025-004; ER01-1972-008; ER98-2076-012; ER03-155-007; ER98-4222-008; ER04-290-003; ER01-1710-010; ER04-187-005; ER02-2166-007; ER04-947-006; ER01-2139-011; ER03-1375-004.

Applicants: Backbone Mountain Windpower LLC; Badger Windpower, LLC; Blythe Energy, LLC; Diablo Winds, LLC; Doswell Limited Partnership; ESI Vansycle Partners, L.P.; FPL Energy Burleigh County Wind, LLC; FPL Energy Cowboy Wind, LLC; FPL Energy Duane Arnold, LLC; FPL Energy Hancock County Wind, LLC; FPL Energy Marcus Hook, L.P.; FPL Energy MH 50, LP; FPL Energy Mower County, LLC; FPL Energy North Dakota Wind, LLC; FPL Energy North Dakota Wind II, LLC; FPL Energy Oklahoma Wind, LLC; FPL Energy Oliver Wind, LLC; FPL Energy Sooner Wind, LLC; FPL Energy South Dakota Wind, LLC; FPL Energy Vansycle, L.L.C.; FPL Energy Wyoming, LLC; Gray County Wind Energy, LLC; Hawkeye Power Partners, LLC; High Winds, LLC; Lake Benton Power Partners II, LLC; Meyersdale Windpower LLC; Mill Run Windpower, LLC; North Jersey Energy Associates, A Limited Partnership; Pennsylvania Windfarms, Inc.; POSDEF Power Company, L.P.; Somerset Windpower, LLC; Waymart Wind Farm, L.P.

Description: FPLE Companies submits Joint Triennial Market Power Update.

Filed Date: August 28, 2006.

Accession Number: 20060906-0025.

Comment Date: 5 p.m. Eastern Time on Monday, September 18, 2006.

Docket Numbers: ER06-1047-003; ER06-451-008.

Applicants: Southwest Power Pool, Inc.

Description: Xcel Energy Services Inc on behalf Southwestern Public Service Company submits First Revised Sheet 8 et al. to FERC Electric Tariff, First Revised Volume 1, effective November 1, 2006.

Filed Date: August 31, 2006.

Accession Number: 20060905-0098.

Comment Date: 5 p.m. Eastern Time on Thursday, September 21, 2006.

Docket Numbers: ER06-1432-000.

Applicants: Commonwealth Edison Company.

Description: Commonwealth Edison Company submits Interconnection Agreement and Construction Agreement with the City of Batavia and PJM Interconnection, LLC.

Filed Date: August 30, 2006.

Accession Number: 20060901-0069.

Comment Date: 5 p.m. Eastern Time on Wednesday, September 20, 2006.

Docket Numbers: ER06-1446-000.

Applicants: Hawks Nest Hydro LLC.

Description: Hawks Nest Hydro LLC submits Application for Market-based Authorization, Certain Waivers and Blanket Authorizations and Request for Expedited Action.

Filed Date: August 31, 2006.

Accession Number: 20060905-0184.

Comment Date: 5 p.m. Eastern Time on Thursday, September 18, 2006.

Docket Numbers: ER06-1448-000.

Applicants: New England Power Pool Participants Committee.

Description: The New England Power Pool Participants Committee submits the counterpart signature pages of the New England Power Pool Agreement dated as of September 1, 1971 as amended and executed by the entities.

Filed Date: September 1, 2006.

Accession Number: 20060906-0015.

Comment Date: 5 p.m. Eastern Time on Friday, September 22, 2006.

Docket Numbers: ER06-1449-000.

Applicants: NorthWestern Corporation.

Description: NorthWestern Corporation submits Notice of Cancellation of Service Agreements 33 et al. to its FERC Electric Tariff, Sixth Revised Volume No. 5.

Filed Date: September 1, 2006.

Accession Number: 20060906-0009.

Comment Date: 5 p.m. Eastern Time on Friday, September 22, 2006.

Docket Numbers: ER06-1450-000.

Applicants: WPS Resources Operating Companies.

Description: Wisconsin Public Service Corp and Upper Peninsula Power Co submit a notice of cancellation and revised service agreement cover sheet.

Filed Date: September 1, 2006.

Accession Number: 20060906-0008.

Comment Date: 5 p.m. Eastern Time on Friday, September 22, 2006.

Docket Numbers: ER06-1451-000.

Applicants: Niagara Mohawk Power Corporation.

Description: Niagara Mohawk Power Corporation submits its Service Agreement 920, OATT of the New York Independent System Operator, Inc.

Filed Date: September 1, 2006.

Accession Number: 20060906-0024.

Comment Date: 5 p.m. Eastern Time on Friday, September 22, 2006.

Docket Numbers: ER06-1452-000.

Applicants: PJM Interconnection, LLC.

Description: PJM Interconnection LLC submits an executed Wholesale Market Participation Agreement among PJM, Granger Energy of Honeybrook LLC, and PPL Electric Utilities Corporation.

Filed Date: September 1, 2006.

Accession Number: 20060906-0022.

Comment Date: 5 p.m. Eastern Time on Friday, September 22, 2006.

Docket Numbers: ER06-1453-000.

Applicants: PJM Interconnection, L.L.C.

Description: PJM Interconnection, LLC submits a Wholesale Market Participation Agreement among PJM, Ocean Energy Corporation, and Jersey Central Power & Light a FirstEnergy Company.

Filed Date: September 1, 2006.

Accession Number: 20060906-0023.

Comment Date: 5 p.m. Eastern Time on Friday, September 22, 2006.

Docket Numbers: ER06-1454-000.

Applicants: Westar Energy, Inc.

Description: Westar Energy, Inc submits its Second Revised Sheets 1 and 4 of its First Revised Rate Schedule 233, an Electric Power Supply Agreement with the City of Robinson, Kansas.

Filed Date: September 1, 2006.

Accession Number: 20060906-0012.

Comment Date: 5 p.m. Eastern Time on Friday, September 22, 2006.

Docket Numbers: ER06-1462-000.

Applicants: Aquila Inc.

Description: Aquila, Inc submits its Power Purchase Agreement, Service Agreement No. 1, with Mid-Kansas Electric Company LLC.

Filed Date: August 31, 2006.

Accession Number: 20060906-0164.

Comment Date: 5 p.m. Eastern Time on Thursday, September 21, 2006.

Docket Numbers: ER06-1463-000.

Applicants: The Empire District Electric Company.

Description: The Empire District Electric Co submits its First Revised Sheet 4c-10 et al. to its FERC Electric Tariff, Original Volume No 1.

Filed Date: September 1, 2006.

Accession Number: 20060906-0165.

Comment Date: 5 p.m. Eastern Time on Friday, September 22, 2006.

Docket Numbers: ER06-1464-000.

Applicants: ISO New England Inc.; New England Power Pool Participants Committee.

Description: ISO New England et al. submit their proposed market rule changes to re-instate Appendix H to Market Rule 1.

Filed Date: September 1, 2006.

Accession Number: 20060906-0166.

Comment Date: 5 p.m. Eastern Time on Friday, September 22, 2006.

Docket Numbers: ER06-1465-000.

Applicants: New England Power Pool, Inc.

Description: ISO New England, Inc et al submits filing implementing the Transition Provisions of the Forward Capacity Market Settlement Agreement filed on March 6, 2006.

Filed Date: September 1, 2006.

Accession Number: 20060907-0020.

Comment Date: 5 p.m. Eastern Time on Friday, September 22, 2006.

Docket Numbers: ER06-1466-000.

Applicants: New York Independent System Operator, Inc.

Description: The New York Independent System Operator, Inc submits proposed revisions to its Open Access Transmission Tariff and its Market Administration and Control Area Services Tariff etc.

Filed Date: September 1, 2006.

Accession Number: 20060907-0019.

Comment Date: 5 p.m. Eastern Time on Friday, September 22, 2006.

Docket Numbers: ER06-1467-000; ER06-451-009.

Applicants: Southwest Power Pool, Inc.

Description: Southwest Power Pool, Inc proposes to revise portions of its Open Access Transmission Tariff relating to its real-time energy imbalance service market.

Filed Date: September 1, 2006.

Accession Number: 20060907-0054.

Comment Date: 5 p.m. Eastern Time on Friday, September 22, 2006.

Docket Numbers: ER06-1468-000.

Applicants: Pacificorp.

Description: PacifiCorp submits its load ratio share figures for August 1, 2006—July 31, 2007.

Filed Date: September 1, 2006.

Accession Number: 20060907-0164.

Comment Date: 5 p.m. Eastern Time on Friday, September 22, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-15372 Filed 9-15-06; 8:45 am]

BILLING CODE 6717-01-P